DEPARTMENT OF THE INTERIOR

Bureau of Land Management

[NV-050-5853-ES; N-82353; 8-08807]

Notice of Realty Action: Lease/Conveyance for Recreation and Public Purposes of Public Lands in Clark County, NV

AGENCY: Bureau of Land Management, Interior.

ACTION: Notice of Realty Action.

SUMMARY: Recreation and Public Purposes (R&PP) Act request for lease and subsequent conveyance of approximately 2.5 acres of public land in Clark County, Nevada. The City of Las Vegas (City) proposes to use the land as a fire station.

DATES: Interested parties may submit comments regarding the proposed lease/conveyance of the lands until November 30, 2007.

ADDRESSES: Mail written comments to the BLM Field Manager, Las Vegas Field Office, 4701 N. Torrey Pines Drive, Las Vegas, NV 89130-2301.

FOR FURTHER INFORMATION CONTACT: Kim Liebhauser, Supervisory Realty Specialist, Las Vegas Field Office, (702) 515-5088.

SUPPLEMENTARY INFORMATION: The following described public lands in Las Vegas, Clark County, Nevada have been examined and found suitable for lease and subsequent conveyance under the provisions of the R&PP Act, as amended (43 U.S.C. 869 et seq.). The City of Las Vegas proposes to use 2.5 acres of land for a fire station. The fire station amenities will include fire personnel living quarters, kitchen facilities, office and conference rooms, street grading and paving as well as signage and traffic signal construction, a dumpsite enclosure, landscaping and a parking lot. This fire station will serve citizens in the northwest sector of the City, where rapid growth has occurred. The parcel of public land is generally located east of Fort Apache Road and north of Log Cabin Way, and can be described as:

Mount Diablo Meridian, Nevada,

T. 19 S., R. 60 E.,

Section 5, a portion of Government Lot 18, more particularly described as the NW¼ of Government Lot 18.

The area described contains 2.55 acres, more or less.

Note: This description will be replaced by a lot designation upon final approval of the official plat of survey.

The land is not required for any federal purpose. The proposed action is in conformance with the Las Vegas Resource Management Plan approved on October 5, 1998, and would be in the public interest. The Plan of Development has been reviewed and it is determined the proposed action conforms with land use plan decision, LD-1, established in accordance with Section 202 of the Federal Land Policy and Management Act, as amended (43 U.S.C. 1712). The lease/conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine, and remove such deposits from the lands under applicable law and such regulations as the Secretary of the Interior may prescribe, including all necessary access and exit rights.

The lease/conveyance for N-82353 will be subject to valid existing rights.

On October 16, 2007, the land described above will be segregated from all other forms of appropriation under the public land laws, including the general mining laws, except for lease/conveyance under the R&PP Act, leasing under the mineral leasing laws, and disposals under the mineral material disposal laws.

Detailed information concerning this station is available for review as the BLM Las Vegas Field Office at the address listed above.

Interested parties may submit comments regarding the specific use proposed in the application and Plan of Development, whether the BLM followed proper administrative procedures in reaching the decision to lease/convey under the R&PP Act, to any other factor not yet directly related to the suitability of the land for a fire station. Any adverse comments will be reviewed by the BLM Nevada State Director who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the Field Manager, BLM Las Vegas Field Office will be considered properly filed. Electronic mail, facsimile or telephone comments will not be considered properly filed. Documents related to this action are on file at the BLM Las Vegas Field Office at the address above and may be reviewed by the public at their request.

In the absence of any adverse comments, the decision will become effective on December 17, 2007. The lands will not be available for lease/conveyance until after the decision becomes effective.

(Authority: 43 CFR 2741.5)

Dated: October 4, 2007.
Philip Rhinehart,
Supervisory Realty Specialist, Acting Assistant Field Manager, Las Vegas Field Office.

[FR Doc. 07-5078 Filed 10-15-07; 8:45 am]

BILLING CODE 4310-HC-M